DEPARTMENT OF AGRICULTURE

Office of the Secretary

[Docket No. 99-061-1]

Declaration of Emergency Because of Scrapie in the United States

Scrapie, a degenerative and eventually fatal disease affecting the central nervous systems of sheep and goats, is present in the United States. Scrapie is a complicated disease because it often has an extremely long incubation period without clinical signs of disease.

Currently, scrapie-free countries have an enormous competitive advantage over U.S. sheep producers, who are unable to certify that their flocks originated from a scrapie-free country or region. Because importing countries are demanding that imported sheep come from scrapie-free regions and sheep producers in the United States are unable to make this certification, U.S. producers are finding themselves locked out of the international market, a situation that is taking a serious financial toll on the U.S. sheep industry.

We estimate that scrapie costs the U.S. sheep industry $20 million per year in direct losses, and millions of dollars more in lost potential markets and flock productivity.

Therefore, the Animal and Plant Health Inspection Service (APHIS) has determined it is necessary to accelerate the eradication of scrapie from the United States, an accomplishment that would allow the U.S. sheep industry to once again become competitive in the global market. We estimate this plan will cost a total of $100 million over 7 years.

However, APHIS resources are insufficient to carry out this accelerated scrapie eradication program, which requires $10 million for FY 2000. This $10 million includes approximately $3.6 million for diagnostic support; approximately $2.6 million for animal identification and regulatory enforcement; $1.2 million to indemnify owners of animals that are found through surveillance to be high risk, suspect, or test positive (although no regulations currently exist to provide for the payment of indemnity for sheep and goats, APHIS expects to have such regulations in effect in 2000); $625,000 for the purchase of animals for diagnostic purposes; $692,000 for activities such as necropsy, disposal of animal carcasses, coordination, and training; $1 million for slaughter surveillance activities; and $250,000 to update the generic database for scrapie (making it possible for field and laboratory personnel to enter test and other data efficiently and to generate required reports) and for data analysis at APHIS' Center for Epidemiology and Animal Health.

Therefore, in accordance with the provisions of the Act of September 25, 1981, 95 Stat. 953 (7 U.S.C. 147b), I declare that there is an emergency that threatens the sheep and goat industry of this country, and I authorize the transfer and use of such funds as may be necessary from appropriations or other funds available to the United States Department of Agriculture to conduct a program to accelerate the eradication of scrapie from the United States.

EFFECTIVE DATE: This declaration of emergency shall become effective February 1, 2000.

Dan Glickman,
Secretary of Agriculture.

[FR Doc. 00-6638 Filed 3-16-00; 8:45 am]

BILLING CODE 3410-34-U